NATIONAL FOUNDATION ON THE ARTS AND THE HUMANITIES

Institute of Museum and Library Services

Submission for OMB Review, Comment Request, Proposed Collection: 2024-2026 IMLS Grant Application Forms

AGENCY: Institute of Museum and Library Services, National Foundation on the Arts and the Humanities.

ACTION: Submission for OMB review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the 2024-2026 IMLS Grant Application Forms. A copy of the proposed information collection request can be obtained by contacting the individual listed below in the FOR FURTHER INFORMATION CONTACT section of this Notice.

DATES: Written comments must be submitted to the office listed in the ADDRESSES section below on or before April 30, 2023.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

☐ Evaluate whether the proposed collection of information is necessary for the proper performance of the functions of the agency, including whether the information will have practical utility;

☐ Evaluate the accuracy of the agency's estimate of the burden of the proposed collection of information, including the validity of the methodology and assumptions used;

☐ Enhance the quality, utility, and clarity of the information to be collected; and

☐ Minimize the burden of the collection of information on those who are to respond, including through the use of appropriate automated, electronic, mechanical, or other technological collection techniques or other forms of information technology (e.g., permitting electronic submission of responses).

FOR FURTHER INFORMATION CONTACT: Connie Bodner, Ph.D., Director of Grants Policy and Management, Institute of Museum and Library Services, 955 L'Enfant Plaza North SW, Suite 4000, Washington DC 20024-2135. Dr. Bodner may be reached by telephone at 202-653-4636, or by email at cbodner@imls.gov. Persons who are deaf or hard of hearing (TTY users) may contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the clearance of the 2024-2026 IMLS Grant Application Forms. The purpose of this collection is to facilitate the administration of the IMLS application and review processes for its discretionary grants and cooperative agreements. IMLS uses standardized application forms for eligible libraries, museums, and other organizations to apply for its funding. The forms submitted for public review in this Notice are the IMLS Museum Program Information Form, the IMLS Library-Discretionary Program Information Form, and the IMLS Supplementary Form, each of which is included in one or more of the Grants.gov packages associated with IMLS grant programs.

This action is to seek approval for the information collection for the IMLS Museum Program Information Form, the IMLS Library-Discretionary Program Information Form, and the IMLS Supplementary Form for the next three years.

The 60-day Notice was published in the Federal Register on December 7, 2022 87 FR 75068-75069). The agency received no comments under this Notice.

Agency: Institute of Museum and Library Services.

Title: 2024-2026 IMLS Grant Application Forms.

OMB Control Number: 3137-0092.

Agency Number: 3137.

Respondents/Affected Public: Library and museum grant applicants.

Total Number of Annual Respondents: 1,720.

Frequency of Response: Once per request.

Average Minutes per Response: 45 minutes.

Total Estimated Number of Annual Burden Hours: 1,290 hours.

Total Annualized Capital/Startup Costs: n/a.

Cost Burden (dollars): $39,697.28.

Total Annual Federal Costs: $35,432.00.

Dated: March 28, 2023.
Suzanne Mbollo,
Grants Management Specialist, Institute of Museum and Library Services.

[FR Doc. 2023-06718 Filed 3-30-23; 8:45 am]

BILLING CODE 7036-01-P